DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On January 27, 2006, the binational panel issued its decision in the review of the final determination made by the International Trade Administration, respecting Oil Country Tubular Goods from Mexico Final Antidumping Duty Administrative Review and Determination not to Revoke, Secretariat File No. USA-MEX-2001-1904-05. The binational panel affirmed in part and remanded in part to the International Trade Administration. Copies of the panel decision are available from the U.S. Section of the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of the final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The Panel concluded and ordered the Department as follows:

(1) The Panel affirms the Department's decision to deny TAMSA's request for revocation of the antidumping order.

(2) The Panel affirms the decision of the Department as it relates to Hylsa regarding the treatment of export insurance as a direct expense, and in rejecting Hylsa's challenge to the Department's “zeroing practice”.

(3) The Panel remands the case as it relates to Hylsa to the Department to recalculate the final antidumping margins by:

1. Recalculating the packing costs by (a) taking into account that the cost for automation was captured as an overhead fixed asset; (b) not averaging the packing costs from cost center 2052 for the entire POR because it is not reasonable; and (c) taking into consideration only the packing costs reported by Hylsa for cost center 2052 and only for the two months in which OCTG products were packed.

2. Recalculating the cost of production by averaging the costs of production for both sizes of pipe and for both months to determine a single average cost given the absence of any basis in the record justifying different production costs based on size.

(4) In the event the recalculation results in a zero or de minimus antidumping margin, the Panel directs the Department to address Hylsa's request for revocation of the antidumping order.

The Department was directed to report the results of its remand decision within 45 days of the date of the opinion, or not later than March 13, 2006.

Dated: January 27, 2006.
Caratina L. Alston,
United States Secretary, NAFTA Secretariat.

[FR Doc. E6-1361 Filed 2-1-06; 8:45 am]

BILLING CODE 3510-GT-P